DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Atlantic Highly Migratory Species Vessel Chartering Permits.

Form Number(s): None.

OMB Approval Number: 0648-0495.

Type of Request: Regular submission.

Burden Hours: 8.

Number of Respondents: 10.

Average Hours per Response: Applications, 40 minutes; notification of chartering arrangement termination, 5 minutes.

Needs and Uses: This information collection consists of a permitting requirement for any chartering arrangement involving a U.S. vessel, excluding bareboat charters, made with a country other than the United States. This requirement was recommended at a 2002 International Commission for the Conservation of Atlantic Tunas meeting as a means of potentially reducing double reporting and incidences of illegal, unreported, and unregulated fishing.

Affected Public: Not-for-profit institutions; business or other for-profit organizations; State, Local or Tribal Government.

Frequency: On occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: May 3, 2007.
Gwellnar Banks,
Management Analyst, Office of the Chief Information Officer.

[FR Doc. E7-8835 Filed 5-8-07; 8:45 am]

BILLING CODE 3510-22-P